DEPARTMENT OF ENERGY

Federal Energy Regulatory Commission

Combined Notice of Filings No. 1

August 25, 2009.

Take notice that the Commission received the following electric corporate filings:

Docket Numbers: EC09-105-000.

Applicants: MxEnergy Electric Inc.

Description: MXenergy Electric Inc. Application for Authorization for Disposition of Jurisdictional Facilities and Request for Expedited Action.

Filed Date: 08/20/2009.

Accession Number: 20090820-5082.

Comment Date: 5 p.m. Eastern Time on Monday, August 31, 2009.

Docket Numbers: EC09-106-000.

Applicants: Milford Wind Corridor Phase I, LLC, MWCI Holdings, LLC.

Description: Application for Authorization of Disposition of Jurisdictional Facilities and Request for Expedited Consideration and Confidential Treatment of Milford Wind Corridor Phase I, LLC, and MWCI Holdings, LLC.

Filed Date: 08/25/2009.

Accession Number: 20090825-5046.

Comment Date: 5 p.m. Eastern Time on Tuesday, September 15, 2009.

Take notice that the Commission received the following exempt wholesale generator filings:

Docket Numbers: EG09-89-000.

Applicants: Silver Sage Windpower, LLC.

Description: Notice of Self-Certification as an Exempt Wholesale Generator of Silver Sage Windpower, LLC.

Filed Date: 08/25/2009.

Accession Number: 20090825-5039.

Comment Date: 5 p.m. Eastern Time on Tuesday, September 15, 2009.

Take notice that the Commission received the following electric rate filings:

Docket Numbers: ER07-589-003; ER05-1389-003; ER06-1228-004; ER99-3450-009; ER99-2769-010; ER00-2706-007; ER01-390-007; ER04-208-006.

Applicants: Citigroup Energy Canada ULC, San Juan Mesa Wind Project, LLC, Chandler Wind Partners, LLC, Foote Creek II, LLC, Foote Creek IV, LLC, Ridge Crest Wind Partners, LLC, Citigroup Energy Inc., Phibro LLC, Foote Creek III, LLC.

Description: Notice of Non-Material Change in Status.

Filed Date: 08/24/2009.

Accession Number: 20090824-5128.

Comment Date: 5 p.m. Eastern Time on Monday, September 14, 2009.

Docket Numbers: ER09-863-002.

Applicants: SMART Papers Holdings, LLC.

Description: SMART Papers Holdings, LLC's Substitute Original Sheet 1 to its FERC Electric Tariff, Original Volume 1.

Filed Date: 08/24/2009.

Accession Number: 20090825-0057.

Comment Date: 5 p.m. Eastern Time on Monday, September 14, 2009.

Docket Numbers: ER09-1306-001.

Applicants: Kansas City Power & Light Company.

Description: Kansas City Power & Light Company submits the amended and Restated Interconnection Rights Assignment and Assumption Agreement et al.

Filed Date: 08/24/2009.

Accession Number: 20090825-0054.

Comment Date: 5 p.m. Eastern Time on Monday, September 14, 2009.

Docket Numbers: ER09-1548-001.

Applicants: Midwest Independent Transmission System Operator, Inc.

Description: Midwest Independent Transmission System Operator, Inc submits Notice of Succession of Certain Transmission Service Agreements and Network Integration Transmission Service and Operating Agreements.

Filed Date: 08/24/2009.

Accession Number: 20090825-0056.

Comment Date: 5 p.m. Eastern Time on Monday, September 14, 2009.

Docket Numbers: ER09-1544-000.

Applicants: PacifiCorp.

Description: PacifiCorp submits Average System Cost filing for sales of electric power to the Bonneville Power Administration.

Filed Date: 08/04/2009.

Accession Number: 20090805-0021.

Comment Date: 5 p.m. Eastern Time on Friday, September 04, 2009.

Docket Numbers: ER09-1620-000.

Applicants: Virginia Electric and Power Company.

Description: Virginia Electric and Power Company submits revised cover sheet to cancel a Standard Large Generator Interconnection Agreement between Dominion Virginia Power and CPV Warren, LLC.

Filed Date: 08/24/2009.

Accession Number: 20090825-0018.

Comment Date: 5 p.m. Eastern Time on Monday, September 14, 2009.

Docket Numbers: ER09-1621-000.

Applicants: Jersey Central Power & Light Co.

Description: Jersey Central Power & Light Co submits an amended Interconnection Agreement with RR Energy Mid-Atlantic Power Holdings, LLC.

Filed Date: 08/24/2009.

Accession Number: 20090825-0058.

Comment Date: 5 p.m. Eastern Time on Monday, September 14, 2009.

Take notice that the Commission received the following electric securities filings:

Docket Numbers: ES09-48-000.

Applicants: El Paso Electric Company.

Description: Application of El Paso Electric Company for Authorization under Section 204 of the Federal Power Act regarding a Revolving Credit Facility.

Filed Date: 08/25/2009.

Accession Number: 20090825-5040.

Comment Date: 5 p.m. Eastern Time on Tuesday, September 15, 2009.

Any person desiring to intervene or to protest in any of the above proceedings must file in accordance with Rules 211 and 214 of the Commission's Rules of Practice and Procedure (18 CFR 385.211 and 385.214) on or before 5:00 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-21875 Filed 9-10-09; 8:45 am]

BILLING CODE 6717-01-P